DEPARTMENT OF LABOR

Employment and Training Administration

[TA-W-52,656]

Agere Systems, Inc., Including Contract Workers of Novellus Systems, Inc., Allentown, PA; Amended Certification Regarding Eligibility To Apply for Worker Adjustment Assistance

In accordance with section 223 of the Trade Act of 1974 (19 U.S.C. 2273) the Department of Labor issued a Certification of Eligibility to Apply for Worker Adjustment Assistance on October 7, 2003, applicable to workers of Agere Systems, Inc., Allentown, Pennsylvania. The notice was published in the Federal Register on November 6, 2003 (68 FR 62833). The certification was amended on November 3, 2003, to correct the impact from August 15, 2002, to August 30, 2003. The notice was published in the Federal Register on November 26, 2003 (68 FR 66493).

At the request of the State agency, the Department reviewed the certification for workers of the subject firm. New information shows that contract workers of Novellus Systems, Inc. were employed at Agere Systems, Inc., at the Allentown, Pennsylvania location of the subject firm.

Based on these findings, the Department is amending this certification to include contract workers of Novellus Systems, Inc. working at Agere Systems, Inc., Allentown, Pennsylvania.

The intent of the Department's certification is to include all workers employed at Agere Systems, Inc. who were adversely affected by increased imports of integrated circuits.

The amended notice applicable to TA-W-52,656 is hereby issued as follows:

All workers of Agere Systems, Inc., including contract workers of Novellus Systems, Inc., Allentown, Pennsylvania, who became totally or partially separated from employment on or after August 30, 2003, through November 3, 2005, are eligible to apply for adjustment assistance under section 223 of the Trade Act of 1974.

Signed in Washington, DC this 10th day of February, 2004.
Linda G. Poole,
Certifying Officer, Division of Trade Adjustment Assistance.

[FR Doc. 04-4965 Filed 3-4-04; 8:45 am]

BILLING CODE 4510-30-P